DEPARTMENT OF THE INTERIOR

Fish and Wildlife Service

[FWS-R4-R-2008-N0163; 40136-1265-0000-S3]

Logan Cave National Wildlife Refuge, Benton County, AR

AGENCY: Fish and Wildlife Service, Interior.

ACTION: Notice of availability: final comprehensive conservation plan and finding of no significant impact.

SUMMARY: We, the Fish and Wildlife Service (Service), announce the availability of our final comprehensive conservation plan (CCP) and finding of no significant impact (FONSI) for Logan Cave National Wildlife Refuge. In the final CCP, we describe how we will manage this refuge for the next 15 years.

ADDRESSES: A copy of the plan may be obtained by writing to: Holla Bend National Wildlife Refuge, 10448 Holla Bend Road, Dardanelle, AR 72834. The CCP/FONSI may also be accessed and downloaded from the Service's Web site http://southeast.fws.gov/planning/.

FOR FURTHER INFORMATION CONTACT: Mr. Durwin Carter, Refuge Manager, Holla Bend National Wildlife Refuge; Telephone: (479) 229-4300; Fax: (479) 229-4302.

SUPPLEMENTARY INFORMATION:

Introduction

With this notice, we finalize the CCP process for Logan Cave National Wildlife Refuge. We started this process through a notice in the Federal Register on November 23, 2005 (70 FR 70878). For more about the process, see that notice.

Logan Cave National Wildlife Refuge was established in 1989 under the Endangered Species Act of 1973 to protect cave inhabitants, including the endangered gray bat (Myotis grisescens), Benton cave crayfish (Cambarus aculabrum), and the threatened Ozark cavefish (Amblyopsis rosae). The cave also has historically provided habitat for the endangered Indiana bat (Myotis sodalis). This 123-acre Ozark Mountain refuge, which includes a limestone solution cave with approximately 1.5 miles of passageways, is located 20 miles west of Fayetteville, Arkansas, and approximately 2 miles north of U.S. Highway 412. The ecology of Logan Cave has been described as the highest quality cave habitat in the entire Ozark region. There are only two known entry points for the cave: the sinkhole and spring. The sinkhole consists of a steep sided funnel shaped depression about 50 feet in diameter located on a forested hillside. The spring entrance is located on a hillside under an overhang rock bluff. Most of the refuge consists of hillsides, which support a mature climax community of oak and hickory.

Groundwater surfacing within the cave forms a stream that flows throughout the cave and at the outfall forms Logan Spring, which drains to Osage Creek just south of the refuge. Osage Creek is a major tributary of the Illinois River, which is the main drainage in southwestern Benton County, and their confluence is about 1.2 miles south of the refuge. In past years, spring water from the cave had a measured flow of approximately 5 million gallons per day and supplied the Logan community, a fish hatchery, and 49 fish ponds.

We announce our decision and the availability of the final CCP and FONSI for Logan Cave National Wildlife Refuge in accordance with the National Environmental Policy Act (NEPA) (40 CFR 1506.6(b)) requirements. We completed a thorough analysis of impacts on the human environment, which we included in the draft comprehensive conservation plan and environmental assessment (Draft CCP/EA). The CCP will guide us in managing and administering Logan Cave Refuge for the next 15 years.

The compatibility determinations for environmental education and interpretation, research, and monitoring are available in the CCP.

Background

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Comments

Approximately 120 copies of the Draft CCP/EA were made available for a 30-day public review period as announced in the Federal Register on January 25, 2008 (73 FR 4615). A public meeting was held on February 12, 2008, at 6 p.m., at the Logan Community Center. Fifteen individuals were in attendance at the meeting. Eight respondents consisting of the Service; the State Clearinghouse of Arkansas, Department of Finance and Administration; the Ozark Underground Laboratory, Inc.; Natural Resources Conservation Service; the Arkansas Natural Heritage Commission; and local citizens submitted written comments by mail or e-mail.

Selected Alternative

We developed three alternatives for management of the refuge and chose Alternative 3 as the preferred alternative. This alternative was considered to be the most effective for meeting the purposes of the refuge by conserving, restoring, and managing the refuge's habitats and wildlife while optimizing wildlife-dependent public uses. Alternative 3 best achieves national, ecosystem, and refuge-specific goals and objectives and positively addresses significant issues and concerns expressed by the public.

Under Alternative 3, all refuge management actions will be directed toward achieving the refuge's primary purpose to properly administer, conserve, and develop the 123-acre area for protection of a unique cave ecosystem that provides essential habitat for the endangered gray bat, endangered Benton cave crayfish, the threatened Ozark cavefish, and other significant cave dwelling wildlife species, while contributing to other national, regional, and state goals to protect and restore karst habitats and species.

The primary focus under this alternative will be to add a staff person and equipment in order to manage, maintain, restore, and protect the refuge's habitats and wildlife species. Wildlife and plant censuses and inventory activities will be initiated and maintained to obtain the biological information needed to continue current refuge management programs and implement crucial management programs on and off the refuge.

Active habitat management will be implemented to maintain and enhance water quality and quantity within the cave system, the recharge zone (groundwater recharge areas), and waterways within the bat foraging areas through best management practices, easements, and partnerships with private landowners and other federal and state agencies. Continuous groundwater quality monitoring is crucial to the existence of the aquatic species utilizing the cave stream and groundwater corridors.

The Benton cave crayfish and Ozark Cavefish populations will be maintained at a minimum of 35 and 40 individuals, respectively. A properly trained survey team (no more than 4 observers) will perform ocular surveys bi-annually in January or February. During these surveys, the occurrence of any Indiana bats will be noted. The refuge will study the micro-climate of the cave to determine suitability for Indiana bats. Gray bats will be counted annually during July by exit counts. At least two trained persons will count bats at the same time on the same evening as the bats emerge from the spring and sinkhole entrances. Bat guano will be measured each year as soon as possible after the maternity colony has left the cave. No more than three persons will conduct guano measurements and this will be done in conjunction with the crayfish/cavefish surveys when possible. The refuge will maintain all other populations of karst species, such as pseudoscorpions, isopods, amphipods, beetles, collembolans, and other blind insects, adapted to subterranean habitats. The abundance of the grotto salamander will also be monitored.

The refuge will identify and implement strategies to improve conditions on and off refuge lands for forest dwelling birds. The primary purpose of this effort will be to work with partners and private landowners to provide a forest system of sufficient size and carrying capacity to reach regional objectives associated with area-sensitive neotropical migratory birds. This will also help protect and enhance foraging area for the gray bats, especially along Osage creek and its tributaries.

Wildlife-dependent recreation activities, such as wildlife observation, wildlife photography, and environmental education and interpretation will be provided. Utilizing various partners, the refuge will develop a small environmental education program, focusing on karst environments. Although the cave is gated and entrance is limited to biological surveys, some cave environmental education can still occur (i.e., supervised visits by small groups to observe emergence of gray bats from a safe distance during the summer). The refuge will develop a community-based volunteer program by establishing a Cave Steward or Friends program. Volunteers will be educated on management issues and utilized to help complete wildlife and plant surveys, maintenance projects, and to conduct public recreation and education programs.

Authority: This notice is published under the authority of the National Wildlife Refuge System Improvement Act of 1997, Public Law 105-57.

Dated: July 1, 2008.
Cynthia K. Dohner,
Acting Regional Director.

[FR Doc. E8-20977 Filed 9-9-08; 8:45 am]

BILLING CODE 4310-55-P